DEPARTMENT OF THE TREASURY

Community Development Financial Institutions Fund

Notice of Information Collection and Request for Public Comment

ACTION: Notice and request for public comment.

SUMMARY: The U.S. Department of the Treasury, as part of its continuing effort to reduce paperwork and respondent burden, invites the general public and other Federal agencies to take this opportunity to comment on proposed and/or continuing information collections, as required by the Paperwork Reduction Act of 1995, Public Law 104-13. Currently, the Community Development Financial Institutions Fund (CDFI Fund), U.S. Department of the Treasury, is soliciting comments concerning the Certification of Material Events Form.

DATES: Written comments must be received on or before April 8, 2022 to be assured of consideration.

ADDRESSES: Submit your comments via email to Heather Hunt, Office of Compliance Monitoring and Evaluation (OCME) Program Manager, CDFI Fund, at ccme@cdfi.treas.gov.

FOR FURTHER INFORMATION CONTACT: Heather Hunt, OCME Program Manager, CDFI Fund, U.S. Department of the Treasury, 1500 Pennsylvania Avenue NW, Washington, DC 20220 or by phone at (202) 653-0385. The Certification of Material Events Form may be obtained from the CDFI Fund's website at https://www.cdfifund.gov/news. Other information regarding the CDFI Fund and its programs may be obtained through the CDFI Fund's website at https://www.cdfifund.gov.

SUPPLEMENTARY INFORMATION:

Title: Certification of Material Events Form.

OMB Number: 1559-0037.

Abstract: This information collection captures information related to specified “material events” that recipients and/or allocatees are required to report per applicable Assistance, Award, Allocation, or Bond Loan Agreement for New Markets Tax Credit Program, CDFI Bond Guarantee Program, Bank Enterprise Award Program, Small Dollar Loan Program, Capital Magnet Fund Program, CDFI Program/Native American CDFI Assistance Program, including Technical Assistance, Financial Assistance, Healthy Food Financing Initiative Financial Assistance, Disability Funds Financial Assistance, Persistent Poverty Counties Financial Assistance, and/or the CDFI Rapid Response Program. The revised form requires recipients and/or allocatees to indicate their material event, explain the event, and describe their organization's response.

Type of Review: Regular Review.

Affected Public: CDFIs and CDEs; including business or other for-profit institutions, non-profit entities, and State, local and Tribal entities participating in CDFI Fund programs.

Estimated Number of Respondents: 200.

Estimated Annual Time per Respondent: .25 hours.

Estimated Total Annual Burden Hours: 50 hours.

Requests for Comments: Comments submitted in response to this notice will be summarized and/or included in the request for OMB approval. All comments will become a matter of public record. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: 12 U.S.C. 4701 et seq.; 26 U.S.C. 45D.

Jodie L. Harris,
Director, Community Development Financial Institutions Fund.

[FR Doc. 2022-02448 Filed 2-4-22; 8:45 am]

BILLING CODE 4810-70-P